FEDERAL COMMUNICATIONS COMMISSION

47 CFR Part 15

[ET Docket No. 03-201; FCC 07-56]

Equipment Approval of Modular Transmitters

AGENCY: Federal Communications Commission.

ACTION: Final rule; announcement of effective date.

SUMMARY: In this document the Commission announces that the Office of Management and Budget (OMB) has approved, for a period of three years, the information collection requirements contained in the “Unlicensed Devices and Equipment Approval,” Report and Order. These new rules required modification of the Form 731 Application for Equipment Authorization, and contained information collection requirements subject to the Paperwork Reduction Act of 1995 that were not effective until after approval by the Office of Management and Budget (OMB).

DATES: The effective date for the rule contained in § 15.212 published in the Federal Register on May 23, 2007 at 72 FR 28889 is April 15, 2008.

FOR FURTHER INFORMATION CONTACT: Nancy Brooks, Office of Engineering and Technology, (202) 418-2454, e-mail: eapninquiry@fcc.gov.

SUPPLEMENTARY INFORMATION: 1. In a Report and Order, released on April 23, 2007, FCC 07-56, published in the Federal Register on May 23, 2007, 72 FR 28889, the Federal Communications Commission adopted new rules that required modification of the Form 731 Application for Equipment Authorization, and contained information collection requirements subject to the Paperwork Reduction Act of 1995 that were not effective until after approval by the Office of Management and Budget (OMB). On March 10, 2008, OMB approved the new modified information collection requirements contained in 47 CFR 15.212. This information collection is assigned OMB Control Number 3060-0057.

2. The Report and Order amended parts 2 and 15 of the Commission's rules for unlicensed devices and equipment approval of both existing modular transmitter devices and emerging partitioned (or “split”) modular transmitter devices. In addition to obtaining approval from OMB as noted, these new rules required software development to modify the Form 731 Application for Equipment Authorization. Software development to implement the new requirements has been completed, and the revised electronic Form 731 approved by OMB can be accessed on the effective date of implementation at https://fjallfoss.fcc.gov/oetcf/eas/index.cfm (applications filed directly with the FCC) or at https://fjallfoss.fcc.gov/tcb/index.html (applications filed by a Telecommunications Certification Body acting on behalf of the FCC). The public may continue to access the FCC database of authorized equipment via the Internet using options presented in the Reports section at https://fjallfoss.fcc.gov/oetcf/eas/index.cfm. Users experiencing problems in accessing the database via the Internet may contact OET at eashelp@fcc.gov

3. This publication satisfies the statement that the Commission would publish a document announcing the effective date of the rule changes requiring OMB approval.

Federal Communications Commission.
William F. Caton,
Deputy Secretary.

[FR Doc. E8-6556 Filed 3-28-08; 8:45 am]

BILLING CODE 6712-01-P